MILITARY COMPENSATION AND RETIREMENT MODERNIZATION COMMISSION

Meeting of the Military Compensation and Retirement Modernization Commission

AGENCY: Military Compensation and Retirement Modernization Commission.

ACTION: Notice of public meeting.

SUMMARY: The Military Compensation and Retirement Modernization Commission (MCRMC) was established by the National Defense Authorization Act FY 2013. Pursuant to the Act, the Commission is holding public hearings on the mission of the agency.

DATES: The hearing will be held Wednesday November 13, 2013 from 9:00 a.m. to 5 p.m.

ADDRESSES: Hyatt, 1325 Wilson Boulevard, Arlington, Virginia 22209. The hotel is handicap accessible and near the Rosslyn METRO stop.

FOR FURTHER INFORMATION CONTACT: Christopher Nuneviller, Associate Director, Military Compensation and Retirement Modernization Commission, P.O. Box 13170, Arlington, VA 22209, telephone 703-692-2080, fax 703-697-8330, email christopher.nuneviller@mcrmc.gov.

SUPPLEMENTARY INFORMATION: The Military Compensation and Retirement Modernization Commission (MCRMC) was established by the National Defense Authorization Act FY 2013, Pub. L. No. 112-239, 126 Stat. 1787 (2013). The Commission will conduct public hearings across the United States and on select military installations internationally in order to solicit comments on the modernization of the military compensation and retirement systems.

Agenda

Time | Panel
9:00 a.m. | Service Relief Organizations:
| Navy and Marine Corps Relief Society.
| (others to be announced on www.mcrmc.gov).
12:30 p.m. | Enlisted Associations:
| Enlisted Association of the National Guard of the U.S.
| The Retired Enlisted Association (TREA).
| Non Commissioned Officers Association (NCOA).
3:00 p.m. | Guard and Reserve Associations:
| Commissioned Officers Association of the U.S. Public Health Service.
| National Guard Association of the U.S.
| Reserve Officers Association.

Each public hearing will be transcribed and placed on the Commission's Web site.

Written Comments: In addition to public hearings, and due to the essential need for input from the beneficiaries, the Commission is accepting and strongly encourages comments and other submissions on its Web site (www.mcrmc.gov).

Christopher Nuneviller,
Associate Director, Administration and Operations.

[FR Doc. 2013-27137 Filed 11-12-13; 8:45 am]

BILLING CODE P